DEPARTMENT OF TRANSPORTATION

Maritime Administration

[Docket Number: MARAD 2001-10445]

Requested Administrative Waiver of the Coastwise Trade Laws

AGENCY: Maritime Administration, Department of Transportation.

ACTION: Invitation for public comments on a requested administrative waiver of the Coastwise Trade Laws for the vessel SIDE BY SIDE.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR part 388 (65 FR 6905; February 11, 2000) that the issuance of the waiver will have an unduly adverse effect on a U.S.-vessel builder or a business that uses U.S.-flag vessels, a waiver will not be granted.

DATES: Submit comments on or before September 24, 2001.

ADDRESSES: Comments should refer to docket number MARAD 2001-10445. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: SIDE BY SIDE. Owner: Ben and Marilyn Siebert.

(2) Size, capacity and tonnage of vessel. According to the applicant: “42 ft. 6 in. LOA / 24 ft. 8 in. beam / 42 in. draft; Gross Tonnage—22 tons / Net Tonnage—19 tons (US standard); Fuel Capacity—100 gal / Water Capacity—212 gal.”

(3) Intended use for vessel, including geographic region of intended operation and trade. According to the applicant: “Day sails and multi-day charters, harbor tours, bareboat and crew, in South Florida between Key Largo and Palm Beach (exclusive).”

(4) Date and Place of construction and (if applicable) rebuilding. Date of construction: 1992. Place of construction: Merignac, France.

(5) A statement on the impact this waiver will have on other commercial passenger vessel operators. According to the applicant: “This Vessel will have negligible impact upon the Miami and South Florida operators. Currently, there are no catamaran day charters operating between Palm Beach and Key Largo (exclusive). All harbor cruises are currently done on large power yachts which can take up to 100 passengers at $14.50 each, with loud music and a party atmosphere. ‘Side by Side' would cater to a more relaxed clientele, who prefer to sail with a small group in peace and quiet for approx. $25.00 per person. After diligent research, we could find no sailboats operating as short-term per-person sightseeing charters in Miami.”

(6) A statement on the impact this waiver will have on U.S. shipyards. According to the applicant: “We have made an exhaustive search for a US built day sailing catamaran. However, we have found that it is very difficult if not impossible to find a vessel that fits our requirements of being U.S. built and USCG approved. There are very few companies building catamarans, and any used boat is grabbed up before I have a chance to bid on a day sailing boat. Our old, Small boat will never supercede the nice and big cats being built, as it can only hold 12 passengers.”

Dated: August 17, 2001.
By order of the Maritime Administrator.
Joel C. Richard,
Secretary, Maritime Administration.

[FR Doc. 01-21237 Filed 8-22-01; 8:45 am]

BILLING CODE 4910-81-P